DEPARTMENT OF DEFENSE

Office of the Secretary

Renewal of Department of Defense Federal Advisory Committees

AGENCY: DoD.

ACTION: Renewal of Federal Advisory Committee.

SUMMARY: Under the provisions of the Federal Advisory Committee Act of 1972 (5 U.S.C. Appendix), the Government in the Sunshine Act of 1976 (5 U.S.C. 552b), and 41 CFR 102-3.50(d), the Department of Defense (DoD) gives notice that it is renewing the charter for the U.S. Air Force Scientific Advisory Board (hereafter referred to as “the Board”).

The Board is a discretionary Federal advisory committee and shall provide independent advice and recommendations to the Secretary of Defense, and the Secretary of the Air Force, to include the Secretary of the Air Force's senior leadership, as determined by the Office of the Secretary of the Air Force.

No matter shall be assigned to the Board for its consideration that would require any Board member to participate personally and substantially in the conduct of any specific procurement or place him or her in the position of acting as a contracting or procurement official.

The Board shall report to the Secretary of Defense, through the Secretary of the Air Force. The Secretary of the Air Force, pursuant to DoD policy, may act upon the Board's advice.

The Board shall be comprised of no more than 60 members to include no more than five Senior Fellows who are distinguished members of the science and technology communities; Federally Funded Research and Development Centers (FFRDC)/National Labs, industry, and academia. Senior Fellows shall be voting members and count toward the Board's total membership. Board members who are not full-time or permanent part-time Federal employees, shall be appointed to serve as experts and consultants under the authority of 5 U.S.C. § 3109 and shall serve as special government employee members. Board members shall be appointed by the Secretary of Defense and their appointments must be renewed by the Secretary of Defense on an annual basis.

The Secretary of the Air Force shall select the Board's Chairperson. In addition, the Secretary of the Air Force may appoint, as deemed necessary non-voting consultants to provide technical subject matter expertise to the Board. These consultants, if not full-time or part-time Federal employees, shall be appointed under the authority of 5 U.S.C. 3109, shall serve as special government employees, and shall be appointed on an intermittent basis to work specific Board-related efforts; such individuals shall have no voting rights and shall not count toward the Board's total membership.

Board members and consultants, with the exception of travel and per diem for official travel, shall serve without compensation. However, the Secretary of the Air Force, at his or her discretion, may authorize compensation to Board members and consultants according to existing statutes, Federal regulations, and DoD policies.

The Secretary of Defense may approve the appointment of Board members for one to four year terms of service, with annual renewals; however, no member, unless authorized by the Secretary of Defense, may serve more than two consecutive terms of service. This same term of service limitation also applies to any DoD authorized subcommittees.

Each Board member is appointed to provide advice on behalf of the government on the basis of his or her best judgment without representing any particular point of view and in a manner that is free from conflict of interest.

The Department, when necessary, and consistent with the Board's mission and DoD policies and procedures, may establish subcommittees deemed necessary to support the Board. Establishment of subcommittees will be based upon a written determination, to include terms of reference, by the Secretary of Defense, the Deputy Secretary of Defense, or the advisory committee's sponsor. Such subcommittees shall not work independently of the chartered Board, and shall report all their recommendations and advice to the Board for full deliberation and discussion. Subcommittees have no authority to make decisions on behalf of the chartered Board; nor can any subcommittee or its members update or report directly to the Department of Defense or any Federal officers or employees.

All subcommittee members shall be appointed in the same manner as the Board members; that is, the Secretary of Defense shall appoint subcommittee members even if the member in question is already a Board member. Subcommittee members, with the approval of the Secretary of Defense, may serve a term of service on the subcommittee of one to four years, with annual renewals; however, no member shall serve more than two consecutive terms of service on the subcommittee.

Subcommittee members, if not full-time or part-time government employees, shall be appointed to serve as experts and consultants under the authority of 5 U.S.C. 3109, and serve as special government employee members. With the exception of travel and per diem for official Board related travel, subcommittee members shall serve without compensation.

All subcommittees operate under the provisions of FACA, the Government in the Sunshine Act of 1976 (5 U.S.C. 552b), governing Federal statutes and regulations, and governing DoD policies/procedures.

FOR FURTHER INFORMATION CONTACT: Jim Freeman, Advisory Committee Management Officer for the Department of Defense, 703-692-5952.

SUPPLEMENTARY INFORMATION: The Board shall meet at the call of the Board's Designated Federal Officer, in consultation with the Board's Chairperson, and the Office of the Secretary of the Air Force. The estimated number of Board meetings is four per year. In addition, the Designated Federal Officer is required to be in attendance at all Board and subcommittee meetings for the entire duration of each and every meeting; however, in the absence of the Designated Federal Officer, a properly approved Alternate Designated Federal Officer shall attend the entire duration of the Board or subcommittee meeting.

The Designated Federal Officer, or the Alternate Designated Federal Officer, shall call all of the Board's and subcommittees' meetings; prepare and approve all meeting agendas; adjourn any meeting when the Designated Federal Officer, or the Alternate Designated Federal Officer, determines adjournment to be in the public interest or required by governing regulations or DoD policies/procedures; and chair meetings when directed to do so by the official to whom the Board reports.

Pursuant to 41 CFR 102-3.105(j) and 102-3.140, the public or interested organizations may submit written statements to U.S. Air Force Scientific Advisory Board's membership about the Board's mission and functions. Written statements may be submitted at any time or in response to the stated agenda of planned meeting of the U.S. Air Force Scientific Advisory Board.

All written statements shall be submitted to the Designated Federal Officer for the U.S. Air Force Scientific Advisory Board, and this individual will ensure that the written statements are provided to the membership for their consideration. Contact information for the U.S. Air Force Scientific Advisory Board Designated Federal Officer can be obtained from the GSA's FACA Database— https://www.fido.gov/facadatabase/public.asp.

The Designated Federal Officer, pursuant to 41 CFR 102-3.150, will announce planned meetings of the U.S. Air Force Scientific Advisory Board. The Designated Federal Officer, at that time, may provide additional guidance on the submission of written statements that are in response to the stated agenda for the planned meeting in question.

Dated: April 10, 2012.
Aaron Siegel,
Alternate OSD Federal Register Liaison Officer, Department of Defense.

[FR Doc. 2012-8946 Filed 4-12-12; 8:45 am]

BILLING CODE 5001-06-P